RAILROAD RETIREMENT BOARD

20 CFR Parts 260 and 320

RIN 3220-AB03

Requests for Reconsideration and Appeals Within the Board; Correction

AGENCY: Railroad Retirement Board.

ACTION: Final rule; correction.

SUMMARY: The Railroad Retirement Board (Board) published in the Federal Register of December 17, 2002, a document that simplified the procedures that govern requests for reconsideration and appeals within the Board. Sections 260.9(b) and 320.39(a) inadvertently contained inaccurate terminology. This document corrects that terminology.

DATES: Effective on February 11, 2003.

FOR FURTHER INFORMATION CONTACT: Marguerite P. Dadabo, Assistant General Counsel, Railroad Retirement Board, (312) 751-4945, TDD (312) 751-4701.

SUPPLEMENTARY INFORMATION: The Railroad Retirement Board published a document in the Federal Register of December 17, 2002 (67 FR 77152). That document simplified the procedures that govern requests for reconsideration and appeals within the Board. We discovered that inaccurate terminology was contained in § 260.9(b) and § 320.39(a). This document corrects that terminology.

In rule FR Doc. 02-31640 published on December 17, 2002 (67 FR 77152), make the following corrections. On page 77156 in § 260.9(b), in the first column (line 4 thereof), and on page 77157 in § 320.39(a), in the third column (line 21 thereof), remove the word “reconsideration” and insert in their place the words “hearings officer's”.

By Authority of the Board.
Dated: February 4, 2003.
For the Board.
Beatrice Ezerski,
Secretary to the Board.

[FR Doc. 03-3308 Filed 2-10-03; 8:45 am]

BILLING CODE 7905-01-P